Title 3—

The President

Notice of January 4, 2001

Continuation of Libya Emergency

On January 7, 1986, by Executive Order 12543, President Reagan declared a national emergency to deal with the unusual and extraordinary threat to the national security and foreign policy of the United States constituted by the actions and policies of the Government of Libya. On January 8, 1986, by Executive Order 12544, the President took additional measures to block Libyan assets in the United States. The President has transmitted a notice continuing this emergency to the Congress and the Federal Register every year since 1986.

The crisis between the United States and Libya that led to the declaration of a national emergency on January 7, 1986, has not been resolved. Despite the United Nations Security Council's suspension of U.N. sanctions against Libya upon the Libyan government's hand over of the Pan Am 103 bombing suspects, there are still concerns about the Libyan government's support for terrorist activities and its noncompliance with United Nations Security Council Resolutions 731 (1992), 748 (1992), and 883 (1993).

Therefore, in accordance with section 202(d) of the National Emergencies Act (50 U.S.C. 1622(d)), I am continuing the national emergency with respect to Libya. This notice shall be published in the Federal Register and transmitted to the Congress.

wj

THE WHITE HOUSE,

January 4, 2001.

[FR Doc. 01-527

Filed 01-04-01; 11:56 am]

Billing code 3195-01-P